DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Uniform Progress Reports (OMB No. 0915-0061)—Revision

The HRSA Uniform Progress Report (UPR) is used for the preparation and submission of continuation applications for Title VII and VIII health professions and nursing education and training programs. The UPR measures grantee success in meeting (1) The objectives of the grant project, and (2) the cross-cutting outcomes developed for the Bureau of Health Professions' education and training programs. Part I of the progress report is designed to collect information to determine whether sufficient progress has been made on the approved project objectives, as grantees must demonstrate satisfactory progress to warrant continuation of funding. Part II collects information on activities specific to a given program. Part III, the Comprehensive Performance Management System (CPMS), collects data on overall project performance related to the Bureau's strategic goals, objectives, outcomes, and indicators. Progress will be measured based on the objectives of the grant project, and outcome measures and indicators developed by the Bureau to meet requirements of the Government Performance and Results Act (GPRA).

The Bureau has simplified several tables in UPR II and added the ability for grantees to provide better race and ethnicity data. In addition, to respond to the requirements of GPRA, the Bureau has revised its cross-cutting goals, expected outcomes, and indicators in UPR III CPMS that provide the framework for collection of outcome data for its Title VII and VIII programs. An outcome based performance system is critical for measuring whether program support is meeting national health workforce objectives. At the core of the performance measurement system are found cross-cutting goals with respect to workforce quality, supply, diversity, and distribution of the health professions workforce.

The estimated annual burden is as follows:

Report | Number of respondents | Responses per respondent | Total responses | Hours per response | Total burden hours
Uniform progress report | 1,550 | 1 | 1,550 | 24 | 37,200
Total | 1,550 |  | 1,550 |  | 37,200

Send comments to Susan G. Queen, PhD, HRSA Reports Clearance Officer, Room 10-33, Parklawn Building, 5600 Fishers Lane, Rockville, MD 20857. Written comments should be received within 60 days of this notice.

Dated: July 5, 2007.
Alexandra Huttinger,
Acting Director, Division of Policy Review and Coordination.

[FR Doc. E7-13626 Filed 7-12-07; 8:45 am]

BILLING CODE 4165-15-P